DEPARTMENT OF THE INTERIOR

Bureau of Land Management

[LLWO35000.L14300000.ER0000.24-1A; OMB Control Number 1004-0029]

Notice of Proposed Information Collection for 1004-0029

AGENCY: Bureau of Land Management, Interior.

ACTION: 60-Day notice and request for comments.

SUMMARY: In compliance with the Paperwork Reduction Act of 1995, the Bureau of Land Management (BLM) is announcing its intention to request approval to continue the collection of information from those persons who submit a Color-of-Title Application to apply for public lands under a color-of-title claim. This information collection activity was previously approved by the Office of Management and Budget (OMB), and assigned clearance numbers 1004-0029.

DATES: Comments on the proposed information collection must be received by July 20, 2009, to be assured of consideration.

ADDRESSES: Comments may be mailed to U.S. Department of the Interior, Bureau of Land Management, Mail Stop 401-LS, 1849 C St., NW., Washington, DC 20240. Comments may also be submitted electronically to Jean_Sonneman@blm.gov. Please attach “Attn: 1004-0029” to either form of comment.

FOR FURTHER INFORMATION CONTACT: To receive a copy of the information collection request, contact Alzata L. Ransom, Lands and Realty Group, on 202-452-7772 (Commercial or FTS). Persons who use a telecommunication device for the deaf (TDD) may call the Federal Information Relay Service (FIRS) on 1-800-877-8330, 24 hours a day, seven days a week, to contact Ms. Ransom.

SUPPLEMENTARY INFORMATION: OMB regulations at 5 CFR 1320, which implementing provisions of the Paperwork Reduction (Act 44 U.S.C. 3501-3521), require that interested members of the public and affected agencies have an opportunity to comment on information collection and recordkeeping activities (see 5 CFR 1320.8 (d) and 1320.12(a)). This notice identifies an information collection that the BLM will be submitting to OMB for approval. This collection is contained in 43 CFR part 2540, Color-of-Title and Omitted Lands. The BLM will request a 3-year term of approval for this information collection activity.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany OSM's submission of the information collection requests to OMB.

Before including your address, phone number, e-mail address, or other personal identifying information in your comment, you should be aware that your entire comment—including your personal identifying information-may be made publicly available at any time. While you can ask us in your comment to withhold your personal identifying information from public review, we cannot guarantee that we will be able to do so.

The following information is provided for the information collection: (1) Title of the information collection; (2) OMB control number; (3) summary of the information collection activity; and (4) frequency of collection, description of the respondents, estimated total annual responses, and the total annual reporting and recordkeeping burden for the collection of information.

Title: 43 CFR part 2540—Color-of-Title and Omitted Lands.

OMB Control Number: 1004-0029.

SUMMARY: The Color-of-Title Act (43 U.S.C. 1068-1068b) provides for the transfer of legal title to public lands from the United States to eligible individuals, groups, or corporations who have a valid color-of-title claim. The BLM needs to collect information in order to determine whether a claimant possesses valid evidence that would support a transfer of title. Responses are required to obtain a benefit.

Frequency of Collection: Once.

Description of Respondents: Applicants who claim title to public lands under the Color of Title Act.

Total Annual Responses: 264.

Total Annual Burden Hours for Applicants: 3,652.

Dated: May 15, 2009.
Jean Sonneman,
Acting Information Collection Clearance Officer, Bureau of Land Management.

[FR Doc. E9-11898 Filed 5-20-09; 8:45 am]

BILLING CODE 4310-84-P